FEDERAL COMMUNICATIONS COMMISSION

Federal Advisory Committee Act; Downloadable Security Technology Advisory Committee

AGENCY: Federal Communications Commission.

ACTION: Notice.

SUMMARY: In accordance with the Federal Advisory Committee Act, this notice advises interested persons that the Federal Communications Commission's (FCC or Commission) Downloadable Security Technology Advisory Committee (DSTAC) will hold meetings on May 13, 2015, July 7, 2015, and August 4, 2015. At the May and July meetings, the committee will discuss Working Group reports and any other topics related to the DSTAC's work that may arise. At the August meeting, the committee will discuss and consider a full draft report and any other topics related to the DSTAC's work that may arise.

DATES: May 13, 2015; July 17, 2015; August 4, 2015.

ADDRESSES: Federal Communications Commission, Room TW-C305 (Commission Meeting Room), 445 12th Street SW., Washington, DC 20554.

FOR FURTHER INFORMATION CONTACT: For additional information on this proceeding, contact Brendan Murray, Brendan.Murray@fcc.gov, of the Media Bureau, Policy Division, (202) 418-1573 or Nancy Murphy, Nancy.Murphy@fcc.gov, of the Media Bureau, (202) 418-1043.

SUPPLEMENTARY INFORMATION: The meetings will be held on May 13, 2015, July 7, 2015, and August 4, 2015, from 10:00 a.m. to 4:00 p.m. in the Commission Meeting Room of the Federal Communications Commission, Room TW-C305, 445 12th Street SW., Washington, DC 20554.

The DSTAC is a Federal Advisory Committee that will “identify, report, and recommend performance objectives, technical capabilities, and technical standards of a not unduly burdensome, uniform, and technology- and platform-neutral software-based downloadable security system.”

The meetings on May 13, 2015, July 7, 2015, and August 4, 2015 will be the fourth, fifth, and sixth meetings of the DSTAC. The FCC will attempt to accommodate as many attendees as possible; however, admittance will be limited to seating availability. The Commission will provide audio and/or video coverage of the meeting over the Internet from the FCC's Web page at http://www.fcc.gov/live. The public may submit written comments before the meeting to Brendan Murray, DSTAC Designated Federal Officer, by email to DSTAC@fcc.gov or by U.S. Postal Service Mail to 445 12th Street SW., Room 4-A726, Washington, DC 20554.

Open captioning will be provided for this event. Other reasonable accommodations for people with disabilities are available upon request. Requests for such accommodations should be submitted via email to fcc504@fcc.gov or by calling the Consumer & Governmental Affairs Bureau at (202) 418-0530 (voice), (202) 418-0432 (tty). Such requests should include a detailed description of the accommodation needed. In addition, please include a way the FCC can contact you if it needs more information. Please allow at least five days' advance notice; last-minute requests will be accepted, but may be impossible to fill.

Federal Communications Commission.
Marlene H. Dortch,
Secretary.

[FR Doc. 2015-09783 Filed 4-27-15; 8:45 am]

BILLING CODE 6712-01-P